DEPARTMENT OF COMMERCE

International Trade Administration

[A-570-601]

Tapered Roller Bearings and Parts Thereof, Finished and Unfinished From the People's Republic of China: Amended Final Results of Antidumping Duty Administrative Review; 2010-2011

AGENCY: Import Administration, International Trade Administration, Department of Commerce.

SUMMARY: The Department of Commerce (the “Department”) is amending the final results of the 2010-2011 antidumping duty administrative review of tapered roller bearings and parts thereof, finished and unfinished (“TRBs”) from the People's Republic of China (“PRC”), to correct certain ministerial errors.

DATES: Effective Date: February 21, 2013.

FOR FURTHER INFORMATION CONTACT: Brandon Farlander or Erin Kearney, AD/CVD Operations, Office 4, Import Administration, International Trade Administration, U.S. Department of Commerce, 14th Street and Constitution Avenue NW., Washington, DC 20230; telephone: (202) 482-0182 or (202) 482-0167, respectively.

SUPPLEMENTARY INFORMATION:

Background

On January 10, 2013, the Department disclosed to interested parties its calculations for the final results of the 2010-2011 administrative review of the antidumping duty order on TRBs from the PRC. On January 15, 2013, Changshan Peer Bearing Co., Ltd. (“CPZ/SKF”) timely filed ministerial error allegations and requested that, pursuant to section 751(h) of the Tariff Act of 1930, as amended (“the Act”) and 19 CFR 351.224, the Department correct the alleged ministerial errors in the calculations. The Department published the final results of this proceeding on January 16, 2013.¹ On January 22, 2013, the Timken Company (“Timken”) filed rebuttal comments to CPZ/SKF's ministerial error allegations. No other interested party submitted ministerial error allegations or rebuttal comments.

¹ See Tapered Roller Bearings and Parts Thereof, Finished and Unfinished, From the People's Republic of China: Final Results of Antidumping Duty Administrative Review; 2010-2011, 78 FR 3396 (January 16, 2013) (“Final Results”).

Scope of the Order

For a full description of the products covered by the antidumping duty order on tapered roller bearings from the PRC, see Memorandum to Abdelali Elouaradia, Director, AD/CVD Operations, Office 4, from Brandon Farlander and Erin Kearney, International Trade Compliance Analysts, AD/CVD Operations, Office 4, concerning, “Final Results of the 2010-2011 Antidumping Duty Administrative Review of Tapered Roller Bearings from the People's Republic of China: Allegation of Ministerial Errors and Amended Final,” dated concurrently with this notice (“Ministerial Error Memorandum”), which is incorporated by reference.

Ministerial Errors

A ministerial error is defined in section 751(h) of the Act as including “errors in addition, subtraction, or other arithmetic function, clerical error resulting from inaccurate copying, duplication, or the like, and any other type of unintentional error which the administering authority considers ministerial.” ²

² See also 19 CFR 351.224(e).

After analyzing CPZ/SKF's comments and Timken's rebuttal comments, we have determined, in accordance with section 751(h) of the Act and 19 CFR 351.224(e), that we made the following ministerial errors in our calculations for the Final Results:

• We unintentionally deducted amounts for domestic brokerage and handling expenses twice for certain sales.

• We unintentionally failed to offset CPZ/SKF's freight expenses with its freight revenue for sales in which it reported both freight expenses from the warehouse to the U.S. customer and corresponding freight revenue.

For a detailed discussion of all alleged ministerial errors, as well as the Department's analysis, see Ministerial Error Memorandum.

In accordance with section 751(h) of the Act and 19 CFR 351.224(e), we are amending the Final Results of the administrative review of TRBs from the PRC. The revised weighted-average dumping margins are detailed below. For CPZ/SKF-specific calculations, see Memorandum to the File from Brandon Farlander and Erin Kearney, International Trade Analysts, AD/CVD Operations, Office 4, Import Administration, “Administrative Review of Tapered Roller Bearings and Parts Thereof, Finished and Unfinished from the People's Republic of China: Amended Final Results Analysis Memorandum of Changshan Peer Bearing Co., Ltd. and Peer Bearing Company,” dated concurrently with this notice and incorporated by reference.

In the Final Results, we determined that one company, in addition to the mandatory respondent, qualified for a separate rate.³ Because we have revised the weighted-average dumping margin for CPZ/SKF, we are also revising the weighted-average dumping margin for Xiang Yang Automobile Bearing Co., Ltd., a separate rate respondent, because the rate for Xiang Yang Automobile Bearing Co., Ltd. is based on the weighted-average dumping margin calculated for CPZ/SKF.

³ See Final Results, 78 FR at 3397.

The amended, weighted-average dumping margins are as follows:

Exporter | Weighted-average dumping margin (percent)
Changshan Peer Bearing Co., Ltd | 14.91
Xiang Yang Automobile Bearing Co., Ltd | 14.91
PRC-wide entity * | 92.84
* The PRC-wide entity includes Haining Automann Parts Co., Ltd., Zhejiang Zhaofeng Mechanical and Electronic Co., Ltd., and Tianshui Hailin Import and Export Corporation, where the exporter is Tianshui Hailin Import and Export Corporation and the producer is any company other than Hailin Bearing Factory (the successor-in-interest is Gansu Hailin Zhongke Science & Technology Co., Ltd.). The Department has previously found that merchandise produced by Hailin Bearing Factory and exported by Tianshui Hailin Import and Export Corporation is not subject to the order.⁴

⁴ See Tapered Roller Bearings and Parts Thereof, Finished and Unfinished, from the People's Republic of China: Final Results of 2000-2001 Administrative Review, Partial Rescission of Review, and Determination to Revoke Order, in Part, 67 FR 68990, 68991 (November 14, 2002); see also Tapered Roller Bearings and Parts Thereof, Finished and Unfinished, from the People's Republic of China: Final Results of 2009-2010 Antidumping Duty Administrative Review and Rescission of Administrative Review, in Part, 77 FR 2271, 2273 (January 17, 2012).

Disclosure

We will disclose the calculations performed for these amended final results within five days of the date of publication of this notice to interested parties in accordance with 19 CFR 351.224(b).

Assessment Rates

Pursuant to section 751(a)(2)(A) of the Act and 19 CFR 351.212(b), the Department will determine, and U.S. Customs and Border Protection (“CBP”) shall assess, antidumping duties on all appropriate entries of subject merchandise in accordance with the amended final results of this review. The Department intends to issue assessment instructions to CBP 15 days after the date of publication of these amended final results of review.

For any individually examined respondents whose weighted-average dumping margin is above de minimis (i.e., 0.50 percent), we calculated importer-specific assessment rates for merchandise subject to this review.⁵

⁵ As in the Final Results, the Department applied the assessment rate calculation method adopted in Antidumping Proceedings: Calculation of the Weighted-Average Dumping Margin and Assessment Rate in Certain Antidumping Proceedings: Final Modification, 77 FR 8101 (February 14, 2012) (“Final Modification for Reviews”).

For CPZ/SKF, we calculated an ad valorem rate for each importer by dividing the total amount of dumping calculated for the importer's examined sales by the total entered values associated with those sales. For duty-assessment rates calculated on this basis, we will direct CBP to assess the resulting ad valorem rate against the entered customs values for the subject merchandise. We will instruct CBP to assess antidumping duties on all appropriate entries covered by this review where an importer-specific assessment rate is above de minimis. Where either the respondent's weighted-average dumping margin is zero or de minimis,⁶ or an importer-specific assessment rate is zero or de minimis,⁷ we will instruct CBP to liquidate the appropriate entries without regard to antidumping duties.

⁶ See Final Modification for Reviews.

⁷ See 19 CFR 351.106(c)(2).

We will instruct CBP to liquidate entries of subject merchandise exported by the PRC-wide entity at the ad valorem rate of 92.84 percent of entered value.

Cash Deposit Requirements

The following cash deposit requirements will be effective retroactively on any entries made on or after January 16, 2013, the date of publication of the Final Results, for all shipments of the subject merchandise entered, or withdrawn from warehouse, for consumption on or after the publication date, as provided for by section 751(a)(2)(C) of the Act: (1) For the exporters listed above, the cash deposit rate will be the rate shown for this company (except if the rate is de minimis, i.e., less than 0.5 percent, a zero cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 92.84 percent; and (4) for all non-PRC exporters of subject merchandise which have not received their own rate, the cash deposit rate will be the rate applicable to the PRC exporters that supplied that non-PRC exporter. These deposit requirements shall remain in effect until further notice.

These amended final results are published in accordance with sections 751(h) and 777(i)(1) of the Act.

Dated: February 13, 2013.
Paul Piquado,
Assistant Secretary for Import Administration.

[FR Doc. 2013-04043 Filed 2-20-13; 8:45 am]

BILLING CODE 3510-DS-P